Proclamation 8833 of June 1, 2012

Great Outdoors Month, 2012

By the President of the United States of America

A Proclamation

America's natural treasures and unique landscapes have always mirrored the rugged independence and cherished diversity that define our national character. From rocky coasts to lush woodlands to urban parks, our great outdoors have set the scene for countless adventures, trials, and triumphs. During Great Outdoors Month, we celebrate our long legacy of environmental stewardship and resolve to preserve clean and healthy outdoor spaces for generations to come.

Thanks to centuries of forward-thinking Americans—from leaders like Presidents Abraham Lincoln and Theodore Roosevelt to private citizens and neighborhood groups—our lives have been enriched by a tremendous array of natural beauty. To uphold this tradition, I was proud to launch the America's Great Outdoors Initiative. Building on input from tens of thousands of people across our country, we are joining with communities, landowners, sportsmen, businesses, and partners at every level of government to reconnect Americans with the natural world and lay the foundation for a more sustainable planet. Through the Initiative, we are also helping support farms and ranches that provide our Nation with food, fiber, and energy. The 21st Century Conservation Service Corps is empowering our Nation's youth to restore and protect our public lands and waters through meaningful jobs and service opportunities. And First Lady Michelle Obama's Let's Move Outside! initiative is encouraging children and families to explore the outdoors and engage in outdoor recreation as part of a healthy, active lifestyle.

Protecting our environment is not only a duty to our children; it is an economic imperative. Visitors to our public lands contribute billions of dollars to local economies, and I am committed to supporting this engine of growth. As part of our National Travel and Tourism Strategy, my Administration is working to increase visits to our national parks and scenic places. This initiative will help support small businesses and drive job growth across our country.

Great Outdoors Month is a time for all Americans to share in the natural splendor of which we are all proud inheritors. Whether camping, fishing, rock climbing, or playing in a neighborhood park, nature offers each of us the opportunity to get active, explore, and strengthen our bonds with family and friends. This month, let us celebrate our natural heritage by experiencing it together.

NOW, THEREFORE, I, BARACK OBAMA, President of the United States of America, by virtue of the authority vested in me by the Constitution and the laws of the United States, do hereby proclaim June 2012 as Great Outdoors Month. I urge all Americans to explore the great outdoors and to uphold our Nation's legacy of conserving our lands and waters for future generations.

IN WITNESS WHEREOF, I have hereunto set my hand this first day of June, in the year of our Lord two thousand twelve, and of the Independence of the United States of America the two hundred and thirty-sixth.

[FR Doc. 2012-13947

Filed 6-6-12; 8:45 am]

Billing code 3295-F2-P